DEPARTMENT OF THE TREASURY

31 CFR Part 1

Departmental Offices; Privacy Act of 1974; Implementation

AGENCY: Department of the Treasury.

ACTION: Final rule; corrections.

SUMMARY: The Department of the Treasury is making corrections to its Privacy Act exemption rules that were published on November 21, 2000, which consolidated the regulations issued pursuant to 5 U.S.C. 552a(j) and (k) exempting one or more systems of records established on behalf of each bureau by the Department.

EFFECTIVE DATE: March 27, 2001.

ADDRESSES: Inquiries may be addressed to Department of the Treasury, Disclosure Services, Washington, DC 22020.

FOR FURTHER INFORMATION CONTACT: Dale Underwood, Deputy Assistant Director, Disclosure Services, (202) 622-0930.

SUPPLEMENTARY INFORMATION: On November 21, 2000, the Department of the Treasury published a final rule at 65 FR 69865, amending its regulations issued pursuant to 5 U.S.C. 552a(j) and (k).

The Department is making several corrections to its list of systems of records for which an exemption is claimed as published on November 21, 2000. In the table following paragraph (c)(1)(i), the system number and title of two systems of records were inadvertently combined to read “DO .212 Bank Secrecy Act Reports System.” This is being changed to properly identify the system number and name for the systems of records entitled “DO .212 Suspicious Activity Reporting System,” and “DO .213 Bank Secrecy Act Reports System.” In addition, “DO .212 Suspicious Activity Reporting System” was not included in the table following paragraph (g)(1)(i) under the heading “DEPARTMENTAL OFFICES,” and this rule will make this correction. The final rule for the “Suspicious Activity Reporting System” was published on October 31, 1997, at 62 FR 58907.

As noted in that preamble, the Department had published a final rule on November 17, 1999, at 64 FR 62585, which exempted a U.S. Customs Service system of records, CS .213-Seized Assets and Case Tracking System (SEACATS) pursuant to 5 U.S.C. 552a(j)(2) and (k)(2). The above system of records did not appear in the tables following paragraphs (c)(1)(iv) and (g)(1)(iv) under the heading U.S. CUSTOMS SERVICE. This rule corrects the oversight by adding SEACATS to the tables under the respective paragraphs.

In addition, corrections are being made to incorporate the following changes to the Department's inventory of Privacy Act systems of records in the appropriate tables:

(1) Treasury/DO .190 is renamed from “General Allegations and Investigative Records” to “Investigation Data Management System,” as published on August 31, 2000, at 65 FR 53085.

(2) “ATF .006-Internal Security Record System,” and “BEP .044-Personnel Security Files and Indices,” are deleted, as published on December 14, 2000, at 65 FR 78261.

These regulations are being published as a final rule because the amendment does not impose any requirements on any member of the public. This amendment is the most efficient means for the Treasury Department to implement its internal requirements for complying with the Privacy Act.

Accordingly, pursuant to the administrative procedure provisions in 5 U.S.C. 553, the Department of the Treasury finds good cause that prior notice and other public procedure with respect to this rule are impracticable and unnecessary and finds good cause for making this rule effective on the date of publication in the Federal Register.

In accordance with Executive Order 12866, it has been determined that this final rule is not a “significant regulatory action” and, therefore, does not require a Regulatory Impact Analysis.

The regulation will not have a substantial direct effect on the States, on the relationship between the national Government and the States, or on the distribution of power and responsibilities among the various levels of government. Therefore, it is determined that this final rule does not have federalism implications under Executive Order 13132.

Because no notice of proposed rulemaking is required, the provisions of the Regulatory Flexibility Act (5 U.S.C. 601 et seq.) do not apply.

In accordance with the provisions of the Paperwork Reduction Act of 1995 (44 U.S.C. 3501 et seq.), the Department of the Treasury has determined that this final rule will not impose new record-keeping, application, reporting, or other types of information collection requirements.

List of Subjects in 31 CFR Part 1

Privacy.

Part 1 Subpart C of title 31 of the Code of Federal Regulations is amended as follows:

PART 1—[AMENDED]

1. The authority citation for part 1 continues to read as follows:

Authority: 5 U.S.C. 301 and 31 U.S.C. 321. Subpart A also issued under 5 U.S.C. 552 as amended. Subpart C also issued under 5 U.S.C. 552a.

2. Section 1.36 is amended as follows:

a. Paragraph (c)(1)(i) is amended by removing “General Allegations and Investigative Records” and adding in its place “Investigation Data Management System,” to the table.

b. Paragraph (c)(1)(i) is amended by removing the entry “DO .212 Bank Secrecy Act Reports System” and adding in its place “DO .212 Suspicious Activity Reporting System” to the table in numerical order.

c. Paragraph (c)(1)(i) is amended by adding “DO .213 Bank Secrecy Act Reports System” to the table in numerical order.

d. Paragraph (c)(1)(iv) is amended by adding “CS .213-Seized Assets and Case Tracking System (SEACATS)” to the table in numerical order.

e. Paragraph (g)(1)(i) is amended by removing “General Allegations and Investigative Records” and adding in its place “Investigation Data Management System,” to the table.

f. Paragraph (g)(1)(i) is amended by adding “DO .212 Suspicious Activity Reporting System” to the table in numerical order.

g. Paragraph (g)(1)(ii) is amended by removing “ATF .006-Internal Security Record System” from the table.

h. Paragraph (g)(1)(iv) is amended by adding “CS .213-Seized Assets and Case Tracking System (SEACATS)” to the table in numerical order.

i. Paragraph (m)(1)(ii) is amended by removing “ATF .006-Internal Security Record System” from the table; and

j. Paragraph (m)(1)(v) is amended by removing “BEP .044-Personnel Security Files and Indices” from the table.

The additions to § 1.36 read as follows:

§ 1.36 Systems exempt in whole or in part from provisions of 5 U.S.C. 522a and this part.

* * * * *

(c) * * *

(1) * * *

(i) * * *

Number | System name
* * * * *
DO .212 | Suspicious Activity Reporting System.
DO .213 | Bank Secrecy Act Reports System.
* * * * *

(iv) * * *

Number | System name
* * * * *
CS .213 | Seized Assets and Case Tracking System (SEACATS).
* * * * *

(g) * * *

(1) * * *

(i) * * *

Number | System name
* * * * *
DO .212 | Suspicious Activity Reporting System.
* * * * *

(iv) * * *

Number | System name
* * * * *
CS .213 | Seized Assets and Case Tracking System (SEACATS).
* * * * *

Dated: March 6, 2001.
W. Earl Wright, Jr.,
Chief Management and Administrative Programs Officer.

[FR Doc. 01-7468 Filed 3-26-01; 8:45 am]

BILLING CODE 4810-25-P